FEDERAL COMMUNICATIONS COMMISSION

47 CFR Parts 2 and 73

[GN Docket No. 25-133; FCC 25-51; FR ID 308263]

Delete, Delete, Delete; Removal of Obsolete Regulations

AGENCY: Federal Communications Commission.

ACTION: Direct final rule; request for comments.

SUMMARY: In this document, the Commission acts to eliminate certain outdated, obsolete, and unnecessary rules.

DATES: Effective October 20, 2025, unless significant adverse comments are received by September 9, 2025. In the event the Commission receives significant adverse comments, the Commission will publish a timely withdrawal in the Federal Register informing the public the provisions of the rule(s) for which significant adverse comments were received and elimination will not take effect.

ADDRESSES: You may submit comments, identified by GN Docket No. 25-133, electronically or on paper. See SUPPLEMENTARY INFORMATION for specific information and addresses for electronic or paper filings.

FOR FURTHER INFORMATION CONTACT: Kathy Berthot, Federal Communications Commission, Media Bureau, Policy Division, Kathy.Berthot@fcc.gov, (202) 418-7454.

SUPPLEMENTARY INFORMATION: This is a summary of the Commission's Direct Final Rule, GN Docket No. 25-133, FCC 25-51, adopted on August 7, 2025 and released on August 8, 2025. The full text of this document is available for public inspection and can be downloaded at https://www.fcc.gov/document/fcc-deletes-outdated-broadcast-rules-and-requirements. Alternative formats are available for people with disabilities (Braille, large print, electronic files, audio format) by sending an email to fcc504@fcc.gov or calling the Commission's Consumer and Governmental Affairs Bureau at (202) 418-0530 (voice), (202) 418-0432 (TTY).

Comment Period and Filing Procedures. Interested parties may file comments on or before the dates provided in the DATES section of this document. Comments must be filed in GN Docket No. 25-133. Comments may be filed using the Commission's Electronic Comment Filing System (ECFS). See Electronic Filing of Documents in Rulemaking Proceedings, 63 FR 24121 (1998).

• All filings must be addressed to the Commission's Secretary, Office of the Secretary, Federal Communications Commission.

• Electronic Filers: Comments may be filed electronically using the internet by accessing the ECFS: https://www.fcc.gov/ecfs/.

• Paper Filers: Parties who choose to file by paper must file an original and one copy of each filing. If more than one docket or rulemaking number appears in the caption of this proceeding, filers must submit two additional copies for each additional docket or rulemaking number.

• Commercial overnight mail (other than U.S. Postal Service Express Mail and Priority Mail) must be sent to 9050 Junction Drive, Annapolis Junction, MD 20701.

• U.S. Postal Service first-class, Express, and Priority mail must be addressed to 45 L Street NE, Washington, DC 20554.

Procedural Matters

Paperwork Reduction Act of 1995 Analysis: This document does not contain new or modified information collections subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

Congressional Review Act: The Commission has determined, and the Administrator of the Office of Information and Regulatory Affairs, Office of Management and Budget concurs, that this rule is “non-major” under the Congressional Review Act, 5 U.S.C. 804(2). The Commission will send a copy of this Direct Final Rule to Congress and the Government Accountability Office pursuant to 5 U.S.C. 801(a)(1)(A).

Synopsis

I. Introduction

This Direct Final Rule continues our efforts to modernize our regulatory framework by rescinding facially obsolete provisions in parts 2 and 73 of our rules. In this proceeding, we have undertaken a sweeping review eventually aimed at eliminating outdated rules, reducing unnecessary regulatory burdens, accelerating infrastructure deployment, promoting network modernization, and spurring innovation. Our objective is to streamline, simplify, and smartly deregulate across multiple fronts simultaneously to better serve the public and support technological progress.

In initiating this proceeding, we generally sought to identify rules that are outdated, obsolete, unlawful, anticompetitive, or otherwise no longer in the public interest. In today's item, we specifically focus on the repeal of certain broadcast rules in parts 2 and 73 for which prior notice and comment are unnecessary, but for which we elect to provide an opportunity for input on that assessment. Absent any significant adverse comments in response to this Direct Final Rule, these rules will be repealed.

II. Discussion

Good Cause to Forgo Notice and Comment. Under the Administrative Procedure Act, when an agency for good cause finds that notice and public comment “are impracticable, unnecessary, or contrary to the public interest,” it need not follow notice and comment procedures before modifying or repealing rules. Prior notice and comment are “unnecessary” when “ ‘the administrative rule is a routine determination, insignificant in nature and impact, and inconsequential to the industry and to the public.’ ”

We have identified 71 rule provisions, including 98 rules and requirements, that plainly no longer serve the public interest because they regulate obsolete technology,¹ are no longer used in practice by the FCC or licensees,² or are otherwise outdated or unnecessary.³ Applying the “good cause” standard discussed above, we conclude that prior notice and comment are unnecessary before repealing the rules identified in this document.

¹ 47 CFR 2.1400 (specifying procedures for applying for advance approval of a subscription TV system).

² 47 CFR 73.58 (requiring that AM broadcast stations be equipped with specified types of indicating instruments); 73.258 (requiring that FM broadcast stations be equipped with specified types of indicating instruments); 73.297 (authorizing FM broadcast stations to transmit stereophonic sound programs); 73.558 (extending the requirements for indicating instruments set forth in § 73.258 to educational FM broadcast stations); 73.597 (authorizing noncommercial educational FM broadcast stations to transmit stereophonic sound programs); 73.688 (requiring that TV broadcast stations be equipped with specified types of indicating instruments); 73.1695 (listing requirements for proposed changes in transmission standards); 73.1710 (specifying that operation of a broadcast station is permitted 24 hours per day); for International Broadcast Stations, 73.701(b), (d), (f)-(g), (l)-(n) (each subsection defining the terms transmitter-hour, multiple operation, sunspot number, day, reference month, maximum usable frequency, and optimum working frequency, respectively); 73.702(i)(1), (i)(3)-(4), (j)-(k) (each subsection describing the filing of technical data, multiple operation, zones of operation, multiple frequency use, and frequency availability, respectively); 73.760 (describing the showing and conditions required to justify grant of an alternate main transmitter); and 73.765 (describing how to calculate operating power).

³ 47 CFR 73.4000-73.4280 (listing, “solely for purpose of reference and convenience,” certain policies of the FCC); and 73.713(d)-(e) (reminding applicants for International Broadcast Stations operating under program test authority to obey Commission rules and that the grant of program test authority shall not be construed as approval of the license application, respectively).

Direct Final Rule Process. In this Direct Final Rule, we follow the processes previously outlined by the Commission regarding direct final rules, which we briefly summarize here. At times when the Commission has found prior notice and comment unnecessary before modifying or repealing rules, it simply adopted the relevant rule change without any additional process. Although we reserve the right to proceed in that manner, we elect in this decision to proceed using what is known as a “direct final rule” process. By proceeding through a direct final rule, the Commission chooses to provide expanded opportunities for public comment when it is not legally required to do so under the “good cause” standard. Under a direct final rule process, rule changes are adopted without prior notice and comment, but accompanied by an opportunity for the public to file comments—and if we conclude that significant adverse comments have been filed, the relevant rule changes would not take effect until after a full notice and comment process.

In particular, we will publish this item adopting direct final rules in the Federal Register, and allow for comment from interested parties within 20 days of Federal Register publication. Until 20 days after Federal Register publication, this shall be a “permit-but-disclose” proceeding for purposes of our ex parte rules. Because this comment process is directed toward the discrete objective of the direct final rule process, and to avoid unwarranted delay in that process, we prohibit filings addressing the rule changes contemplated in this Direct Final Rule more than 20 days after Federal Register publication, absent further direction from the FCC published in the Federal Register. This both accords with the purpose of the comment process for direct final rules, and is similar (though not identical) to actions the Commission has taken in other contexts to provide a defined end-point for public filings to enable the Commission to focus its attention on the submissions already before it.

The direct final rules will be effective 60 days after Federal Register publication. To the extent that the Commission receives comments on these direct final rules, we will evaluate whether they are significant adverse comments that warrant further procedures before changing the rules. In our assessment, we plan to be guided by the recommendation of the Administrative Conference of the United States that “[a]n agency should consider any comment received during direct final rulemaking to be a significant adverse comment if the comment explains why: a. The [direct final] rule would be inappropriate, including challenges to the rule's underlying premise or approach; or b. The [direct final] rule would be ineffective or unacceptable without a change.”

In the event that we conclude that significant adverse comments have been filed, the Media Bureau and the Office of International Affairs (OIA) will publish a timely withdrawal in the Federal Register so that this Direct Final Rule does not become effective until any appropriate additional procedures have been followed. If significant adverse comments are filed only with respect to a subset of the rule revisions(s) addressed by this Direct Final Rule, the Media Bureau or OIA, as appropriate, will withdraw the portions of the Direct Final Rule that were subject to significant adverse comments. For example, if a significant adverse comment is filed regarding a single rule within a direct final rule addressing multiple rules, we will publish a withdrawal addressing only that rule.

In the event that no comments are filed in response to this Direct Final Rule, we do not anticipate publishing a confirmation of the effective date in the Federal Register, but simply will allow the rule changes to take effect as originally specified. Where comments are filed, but none of the comments are significant adverse comments, where warranted by the record the Media Bureau and/or OIA will issue a Public Notice that will briefly explain why any comments filed were not determined to be significant adverse comments.

III. Ordering Clauses

Accordingly, it is ordered that, pursuant to sections 4(i), 4(j), and 303(r) of the Communications Act, 47 U.S.C. 154(i), (j), 303(r), this Direct Final Rule is adopted. Except as specified below, this Direct Final Rule shall be effective upon Federal Register publication of the rule changes set forth in this document, which also shall serve as the date of public notice of that action.

It is further ordered that the amendments of the Commission's rules as set forth in this document shall be effective 60 days after Federal Register publication. In the event that significant adverse comments are filed, the Media Bureau and the Office of International Affairs shall publish a timely document in the Federal Register withdrawing the rule so that the rule change does not become effective until any additional procedures have been followed. In the event that significant adverse comments are filed with respect to only a subset of the rule revisions, we direct the Media Bureau or Office of International Affairs, as appropriate, to publish a timely document in the Federal Register withdrawing only such rule so that the rule change does not become effective until any additional procedures have been followed.

48. It is further ordered that the Office of the Managing Director, Performance Program Management, shall send a copy of this Direct Final Rule in a report to be sent to Congress and the Government Accountability Office pursuant to the Congressional Review Act, 5 U.S.C. 801(a)(1)(A).

List of Subjects in 47 CFR Parts 2 and 73

Administrative practice and procedures; Radio; Television.

Federal Communications Commission.
Marlene Dortch,
Secretary.

Final Rules

For the reasons discussed in the preamble, the Federal Communications Commission amends part 2 and 73 of Title 47 of the Code of Federal Regulations as follows:

PART 2—FREQUENCY ALLOCATIONS AND RADIO TREATY MATTERS; GENERAL RULES AND REGULATIONS

1. The authority citation for part 2 continues to read as follows:

Authority: 47 U.S.C. 154, 302a, 303, and 336, unless otherwise noted.

Subpart M—[Removed and Reserved]

2. Remove and reserve subpart M, consisting of § 2.1400.

PART 73—RADIO BROADCAST SERVICES

3. The authority citation for part 73 continues to read as follows:

Authority: 47 U.S.C. 154, 155, 301, 303, 307, 309, 310, 334, 336, 339.

Subpart A—AM Broadcast Stations

§ 73.58 [Removed]

4. Remove § 73.58.

Subpart B—FM Broadcast Stations

§ 73.258 [Removed]

5. Remove § 73.258.

§ 73.297 [Removed]

6. Remove § 73.297.

Subpart D—Noncommercial Educational FM Broadcast Stations

§ 73.558 [Removed]

7. Remove § 73.558.

§ 73.597 [Removed]

8. Remove § 73.597.

Subpart E—Television Broadcast Stations

§ 73.688 [Removed]

9. Remove § 73.688.

Subpart F—International Broadcast Stations

§ 73.701 [Amended]

10. Amend § 73.701 by removing and reserving paragraphs (b), (d), (f), (g), and (l) through (n).

§ 73.702 [Amended]

11. Amend § 73.702 by removing and reserving paragraphs (i)(1), (i)(3) and (4), (j), and (k).

§ 73.713 [Amended]

12. Amend § 73.713 by removing paragraphs (d) and (e).

§ 73.760 [Removed]

13. Remove § 73.760.

§ 73.765 [Removed]

14. Remove § 73.765.

Subpart H—Rules Applicable to All Broadcast Stations

§ 73.1695 [Removed]

15. Remove § 73.1695.

§ 73.1710 [Removed]

16. Remove § 73.1710.

§§ 73.4000 through 73.4280 [Removed]

17. Remove §§ 73.4000 through 73.4280.

[FR Doc. 2025-15919 Filed 8-19-25; 8:45 am]

BILLING CODE 6712-01-P